DEPARTMENT OF ENERGY

Federal Energy Regulatory Commission

[Docket No. RP02-398-000]

TransColorado Gas Transmission Company; Notice of Tariff Filing

August 6, 2002.

Take notice that on July 30, 2002, TransColorado Gas Transmission Company (TransColorado) tendered for filing as part of its FERC Gas Tariff, Original Volume No. 1, the following tariff sheets, to be effective September 1, 2002,

Eighth Revised Sheet No. 247

Third Revised Sheet No. 247A

Second Revised Sheet No. 247B

Original Sheet No. 247C

TransColorado is proposing that it be permitted to assess a zero charge for the fuel component of its fuel gas reimbursement percentage (FGRP) and only charge the lost or gained and unaccounted-for gas component of its FGRP for specific backhaul and displacement transportation that it has specified in its revised tariff. TransColorado states that the backhaul and displacement transportation described in Section 12.9(d) to the General Terms and Conditions of its tariff will require no compression or consumption of fuel for any other purpose on TransColorado's system and therefore should not be subjected to the fuel component of TransColorado's FGRP.

TransColorado states that a copy of this filing, with the privileged material removed, has been served upon TransColorado's customers, the Colorado Public Utilities Commission and New Mexico Public Utilities Commission.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-20321 Filed 8-9-02; 8:45 am]

BILLING CODE 6717-01-P